DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by contacting John Peter Kim, at the Office of Technology Transfer, National Institutes of Health, 6011 Executive Boulevard, Suite 325, Rockville, Maryland 20852-3804; telephone: 301/496-7056 ext. 264; fax: 301/402-0220; e-mail: jk141n@nih.gov. A signed Confidential Disclosure Agreement will be required to receive copies of the patent applications.

High Speed Parallel Nucleic Acid Sequencing

Thomas D. Schneider, Denise Rubens (NCI)

Serial No. 60/151,580 filed 30 Aug 1999

The present application describes a new method and apparatus for DNA sequencing called Two Dye Sequencing (TDS). This method employs engineered DNA polymerases which are labeled with a fluorophore such as Green Fluorescent Protein (GFP) and are combined with an annealed oligonucleotide primer in a chamber of a microscope field of view capable of detecting individual molecules. Four nucleotide triphosphates, each labeled on the base with a different fluorescent dye are introduced to the reaction. Light of a specific wavelength is used to excite the fluorophore on the polymerase, which in turn excites the neighboring fluorophore on the nucleotide by Fluorescense Resonance Energy Transfer (FRET). As nucleotides are added to the primer, their spectral emissions provide sequence information of the DNA molecule.

Hydrazide Inhibitors of HIV-1 Integrase

Yves Pommier, Nouri Neamati, Zhaiwai Lin, Terrence R. Burke, Jr. (NCI)

DHHS Reference Nos. E-037-99/0 filed 12 Mar 1999 and E-037-99/1 filed 10 Mar 2000

The human immunodeficiency virus (HIV) is the causative agent of acquired immunodeficiency syndrome (AIDS). Drug-resistance is a critical factor contributing to the gradual loss of clinical benefit to treatments for HIV infection. Accordingly, combination therapies have further evolved to address the mutating resistance of HIV. However, there has been great concern regarding the apparent growing resistance of HIV strains to current therapies.

It has been found that a certain class of compounds including salicylhydrazides and analogs and derivatives thereof are effective and selective anti-integrase inhibitors which are active in the presence of both Mn(+2) and Mg(+2) and which may be used in the treatment or prevention of infection by HIV and AIDS. The subject invention provides for such compounds and for methods of inhibiting HIV integrase.

Dated: April 5, 2000.
Jack Spiegel,
Director, Division of Technology Development and Transfer, Office of Technology Transfer, National Institutes of Health.

[FR Doc. 00-9446 Filed 4-14-00; 8:45 am]

BILLING CODE 4140-01-P